DEPARTMENT OF ENERGY

Federal Energy Regulatory Commission

[Project No. 12707-001]

Hook Canyon Energy, LLC; Notice of Intent to File License Application, Filing of Pre-Application Document (PAD), Commencement of Licensing Proceeding, Scoping, Solicitation of Comments on the PAD and Scoping Document, and Identification of Issues and Associated Study Requests

March 14, 2008.

a. Type of Filing: Notice of Intent to File License Application for a New License and Commencing Licensing Proceeding.

b. Project No.: 12707-001.

c. Dated Filed: September 10, 2007.

d. Submitted by: Hook Canyon Energy, LLC.

e. Name of Project: Hook Canyon Pump Storage Project.

f. Location: The project would be located in Rich County, Utah and Bear Lake County, Idaho. The project's upper reservoir would be constructed in Hook Canyon on the eastern side of Bear Lake. Bear Lake would be the project's lower reservoir. The proposed project would not occupy any federal lands.

g. Filed Pursuant to: 18 CFR Part 5 of the Commission's Regulations.

h. Potential Applicant Contact: Brent Smith, Symbiotics LLC, P.O. Box 535, Rigby, ID 83442; (208) 745-0834.

i. FERC Contact: Steve Hocking at steve.hocking@ferc.gov or (202) 502-8753.

j. We are asking federal, state, local, and tribal agencies with jurisdiction and/or special expertise with respect to environmental issues to cooperate with us in the preparation of the environmental document. Agencies who would like to request cooperating status should follow the instructions for filing comments described in paragraph o below. Cooperating agencies should note the Commission's policy that agencies that cooperate in the preparation of an environmental document cannot also intervene in that same proceeding. See, 94 FERC ¶ 61,076 (2001).

k. With this notice, we are initiating informal consultation with: (a) The U.S. Fish and Wildlife Service and/or NOAA Fisheries under section 7 of the Endangered Species Act and the joint agency regulations thereunder at 50 CFR, Part 402 and, (b) the State Historic Preservation Officer, as required by section 106, National Historic Preservation Act, and the implementing regulations of the Advisory Council on Historic Preservation at 36 CFR 800.2.

l. By letters dated February 13 and 14, 2008, we designated Hook Canyon Energy, LLC to be the Commission's non-federal representative for consultation pursuant to section 7 of the Endangered Species Act and section 106 of the National Historic Preservation Act, respectively.

m. Hook Canyon Energy, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at (866) 208-3676, or for TTY, (202) 502-8659. A copy is also available for inspection and reproduction using the contact information in paragraph h.

Register online at http://ferc.gov/esubscribenow.htm to be notified via e-mail of new filings and issuances related to this or other pending projects at the Commission. For assistance, contact FERC Online Support.

o. With this notice, we are soliciting comments on the PAD and Scoping Document 1 (SD1), as well as study requests. All comments on the PAD and SD1, and study requests should be sent to the address above in paragraph h. In addition, all comments on the PAD and SD1, study requests, requests for cooperating agency status, and all communications to and from Commission staff related to the merits of the potential application (an original and eight copies) must be filed with the Commission at: Kimberly D. Bose, Secretary, Federal Energy Regulatory Commission, 888 First Street, NE., Washington, DC 20426. All filings with the Commission must include on the first page, the project name (Hook Canyon Pump Storage Project) and project number (P-12707-001), and include the heading “Comments on Pre-Application Document,” “Study Requests,” “Comments on Scoping Document 1,” “Request for Cooperating Agency Status,” or “Communications to and from Commission Staff.” Any individual or entity interested in submitting study requests, commenting on the PAD or SD1, and any agency requesting cooperating status must do so by May 13, 2008.

Comments on the PAD and SD1, study requests, requests for cooperating agency status, and other permissible forms of communications with the Commission may be filed electronically via the Internet in lieu of paper. The Commission strongly encourages electronic filings. See 18 CFR 385.2001(a)(1)(iii) and the instructions on the Commission's Web site (http://www.ferc.gov) under the “e-filing” link.

p. As of this time, Commission staff intend to prepare an Environmental Impact Statement for this project.

Scoping Meetings

Commission staff will hold two scoping meetings in the vicinity of the project at the time and place noted below. The daytime meeting will focus on resource agency, Indian tribes, and non-governmental organization concerns, while the evening meeting is primarily for receiving input from the public. We invite all interested individuals, organizations, and agencies to attend one or both of these meetings and to assist staff in identifying particular study needs, as well as the scope of environmental issues to be addressed in the environmental document. The times and locations of these meetings are as follows:

Daytime Scoping Meeting

Date: Wednesday, April 9, 2008.

Time: 9 a.m. to 2 p.m. (MST).

Location: Bear Lake West Restaurant and Sports Bar, 554 Lewis Loop, Fish Haven, ID 83287.

Phone: (208) 945-2222.

Evening Scoping Meeting

Date: Wednesday, April 9, 2008.

Time: 7 p.m.-10 p.m (MST).

Location: Oregon Trail Center, 320 North 4th Street, Montpelier, ID 83254.

Phone: (208) 847-3800.

Scoping Document 1 (SD1), which outlines the subject areas to be addressed in the environmental document, was mailed to the individuals and entities on the Commission's mailing list. Copies of SD1 will be available at the scoping meetings, or may be viewed on the web at http://www.ferc.gov, using the “eLibrary” link. Follow the directions for accessing information in paragraph n. Based on all oral and written comments, a Scoping Document 2 (SD2) may be issued. SD2 may include a revised process plan and schedule, as well as a list of issues identified through the scoping process.

Site Visit

Hook Canyon Energy, LLC and Commission staff will visit the site of the proposed project on Tuesday, April 8, 2008, from 8 a.m. to about 12 noon. To attend the site visit, meet at 8 a.m. at the Bear Lake State Park, Rainbow Cove Launch Area, which is located on the eastern side of Bear Lake on Cisco Beach Road just north of Cisco beach. All participants are responsible for their own transportation and access to the site is limited to four-wheel drive vehicles only. Lunch will be from about 12 to 1 p.m. All participants should bring their own bag or box lunch with them to the site visit.

From 1 p.m. to about 5 p.m., Hook Canyon Energy, LLC and Commission staff will tour PacifiCorp's Lifton pump station on the north end of Bear Lake, associated dikes, and possibly Stewart dam. To attend the tour, meet at 1 p.m. at the Bear Lake State Park, North Beach Parking Area which is located on the eastern side of Bear Lake on Eastshore Road just north of the Utah/Idaho state line. Road just north of the Utah/Idaho state line. All participants are responsible for their own transportation. Access to the Lifton pump station and other PacifiCorp facilities is at PacifiCorp's discretion.

The site visit and tour scheduled for April 8, 2008, is weather dependent. If the site visit and tour are cancelled, notice will be placed on the Commission's April 8, 2008, calendar, on its Web site (http://www.ferc.gov). Please check the Commission's April 8, 2008, calendar before leaving in the morning to attend the site visit and tour.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are included in item n. of this document.

Meeting Procedures

Scoping meetings will be recorded by a stenographer and will become part of the Commission's formal record for this proceeding.

Kimberly D. Bose,
Secretary.

[FR Doc. E8-5830 Filed 3-21-08; 8:45 am]

BILLING CODE 6717-01-P